DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed extension of a currently approved information collection. In accordance with the Paperwork Reduction Act of 1995, this notice seeks comments concerning the information collection outlined in 44 CFR part 61, as it pertains to application for National Flood Insurance Program (NFIP) insurance.

SUPPLEMENTARY INFORMATION: The National Flood Insurance Program (NFIP) is authorized by Public Law 90-448 (1968) and expanded by Public Law 93-234 (1973). The National Flood Insurance Act of 1968 requires that the Federal Emergency Management Agency (FEMA) provided flood insurance at full actuarial rates reflecting the complete flood risk to structures built or substantially improved on or after the effective date for the initial Flood Insurance Rate Map (FIRM) for the community, or after December 31, 1974, whichever is later, so that the risks associated with buildings in flood-prone areas are borne by those located in such areas and not by the taxpayers at large. In accordance with Public Law 93-234, the purchase of flood insurance is mandatory when Federal or federally related financial assistance is being provided for acquisition or construction of buildings located, or to be located, within FEMA-identified special flood hazard areas of communities that are participating in the NFIP.

Collection of Information

Title: National Flood Insurance Program Policy Forms.

Type of Information Collection: Extension of a currently approved collection.

OMB Number: 1660-0006.

Form Numbers: FEMA Form 81-16, Flood Insurance Application, FEMA Form 81-17, Cancellation/Nullification Request , FEMA Form 81-18, General Change Endorsement, FEMA Form 81-25, V-Zone Risk Factor Rating, FEMA Form 81-67, Preferred Risk Application.

Abstract: In order to provide for the availability of policies for flood insurance, policies are marketed through the facilities of licensed insurance agents or brokers in the various States. Applications from agents or brokers are forwarded to a servicing company designated as fiscal agent by FIA. Upon receipt and examination of the application and required premium, the servicing company issues the appropriate Federal flood insurance policy.

Affected Public: Individuals or households; Business or other for-profit; Not-for-profit institutions; Farms; Federal Government; State, Local or Tribal Government

Estimated Total Annual Burden Hours
FEMA NFIP policy form | Number of responses | Per form burden hours | Total burden hours
81-16 Flood Insurance Application | 20,000 | 12 min. | 4,000 hrs.
81-67 Preferred Risk Application | 5,000 | 15 min. | 1,000 hrs.
81-17 Cancellation | 8,000 | 7.5 min. | 1,000 hrs.
81-18 Endorsement | 75,000 | 9 min. | 11,250 hrs.
RPPRI Letters (to obtain missing information required for applications, endorsements, and renewals) | Because this format is used to obtain information requested but missing on, and required to process, applications, endorsements and renewals, its burden hours are not counted separately, but are included in the burden hour totals for those forms.
81-25 V-Zone Risk Factor Rating Form | 50 | 6 hours | 300 hrs.
Renewal Premium Notice | 146,000 | 3 min. | 7,300 hrs.
Coastal Construction Manual—CD Version | 50 | 30 min. | 25 hrs.
Total | 254,100 |  | 24,875

Estimated Cost: A $50 expense constant and a $30 policy fee are charged to the policyholder for the issuance of a new policy or the renewal of an existing policy in order to meet the operating expenses of the NFIP. (The amount of the expense constant and/or the policy fee is subject to adjustment as needed to meet the actual cost of the program.)

The projected Operating Expenses (not including claims and claim adjustment expenses) of the NFIP are estimated at approximately $6,800,000. This amount includes all administrative expenses such as processing flood applications, endorsements, cancellations, and customer service.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 17, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Mary Chang, Mitigation Division, (202) 646-2790 for additional information. You may contact the Records Management Branch for copies of the proposed collection of information at facsimile number (202) 646-3347 or e-mail address: FEMA-Information-Collections@dhs.gov.

Dated: February 7, 2006.
Darcy Bingham,
Branch Chief, Information Resources Management Branch, Information Technology Services Division.

[FR Doc. E6-2018 Filed 2-13-06; 8:45 am]

BILLING CODE 9110-11-P